FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Reporting and Recordkeeping Requirements Associated with Regulation Y (Capital Plans) (FR Y-13; OMB No. 7100-0342).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above.

Final Approval Under OMB Delegated Authority of the Extension for Three Years, Without Revision, of the Following Information Collection

Collection title: Reporting and Recordkeeping Requirements Associated with Regulation Y (Capital Plans).

Collection identifier: FR Y-13.

OMB control number: 7100-0342.

General description of collection: In addition to other reporting and recordkeeping requirements, Section 225.8 of Regulation Y—Bank Holding Companies and Change in Bank Control (12 CFR 225.8) requires respondents to submit a capital plan to the Board on an annual basis and to request prior approval from the Board under certain circumstances before making a capital distribution.

Frequency: Annually and on occasion.

Respondents: Top-tier bank holding companies (BHCs) domiciled in the United States with $100 billion or more in total consolidated assets; U.S. intermediate holding companies with total consolidated assets of $100 billion or more; any other BHC domiciled in the United States that is made subject to section 225.8, in whole or in part, by order of the Board; and any nonbank financial company supervised by the Board that is made subject to section 225.8 pursuant to a rule or order of the Board.¹

¹ Large savings and loan holding companies are also subject to capital planning requirements, pursuant to Subpart S of the Board's Regulation LL (12 CFR part 238, subpart S). The collections of information included in that Subpart are accounted for in the Board's FR LL Paperwork Reduction Act (PRA) clearance (OMB No. 7100-0380).

Total estimated number of respondents: 34.

Total estimated annual burden hours: 177,562.

Current actions: On September 11, 2023, the Board published a notice in the Federal Register (88 FR 62370) requesting public comment for 60 days on the extension, without revision, of the FR Y-13. The comment period for this notice expired on November 13, 2023. The Board did not receive any comments.

Board of Governors of the Federal Reserve System, December 19, 2023.
Michele Taylor Fennell,
Deputy Associate Secretary of the Board.

[FR Doc. 2023-28346 Filed 12-22-23; 8:45 am]

BILLING CODE 6210-01-P